DEPARTMENT OF JUSTICE

Notice of Lodging of Consent Decree Pursuant to the Comprehensive Environmental Response, Compensation, and Liability Act

In accordance with Departmental policy, 28 CFR 50.7, notice is hereby given that two proposed consent decrees in United States v. Associated Grocers, Inc. and Fog-Tite, Inc., Civil Action No. 00-0167-R, were lodged on February 3, 2000, with the United States District Court for the Western District of Washington. The consent decrees require the defendants Associated Grocers, Inc. and Fog-Tite, Inc. to compensate the trustees for natural resource damages at the Tulalip Landfill Superfund Site, which consist of the State of Washington Department of Ecology, the Tulalip Tribes of Washington, the National Oceanic and Atmospheric Administration of the United States Department of Commerce, and the United States Department of Interior, for natural resource damages at the Tulalip Landfill Superfund Site that have resulted from the release of hazardous substances at the Site. Under the consent decrees Associated Grocers will pay $43,153 for natural resource damages and Fog-Tite will pay $990 for natural resource damages.

The Department of Justice will receive, for a period of thirty (30) days from the date of this publication, comments relating to the proposed consent decrees. Comments should be addressed to the Assistant Attorney General for the Environment and Natural Resources Division, Department of Justice, Washington, DC 20530, and should refer to United States v. Associated Grocers, Inc. and Fog-Tite, Inc., DOJ Ref. #90-11-3-1412/8.

The proposed consent decrees may be examined at the office of the United States Attorney, 1010 Fifth Avenue, Seattle, WA 98104. Copies of the proposed consent decrees may be obtained by mail from the consent Decree Library, Department of Justice, Environmental Enforcement Section, PO Box 7611, Washington, DC 20044. In requesting copes of both consent decrees, please refer to the referenced case and enclose a check in the amount of $10.00 (25 cents per page reproduction costs) payable to the Consent Decree Library.

Joel Gross,
Chief, Environmental Enforcement Section, Environmental Enforcement Section, Environment and Natural Resources Division.

[FR Doc. 00-4506 Filed 2-24-00; 8:45 am]

BILLING CODE 4410-15-M